DEPARTMENT OF COMMERCE

International Trade Administration

[A-475-826]

Certain Cut-To-Length Carbon-Quality Steel Plate Products from Italy; Notice of Extension of Preliminary Results of Antidumping Duty Administrative Review

AGENCY: Import Administration, International Trade Administration, Department of Commerce.

EFFECTIVE DATE: October 20, 2005.

FOR FURTHER INFORMATION CONTACT: Thomas Martin; Import Administration, International Trade Administration, U.S. Department of Commerce, 14th Street and Constitution Avenue NW, Washington, DC 20230; telephone (202) 482-5253.

SUMMARY: The Department of Commerce (“the Department”) is extending the time limit for completing the preliminary results of antidumping duty administrative review of certain cut-to-length carbon-quality steel plate products (“CTL Plate”) from Italy.

SUPPLEMENTARY INFORMATION:

Background

The Department published an antidumping duty order on CTL Plate from Italy on February 10, 2000. See Notice of Amendment of Final Determinations of Sales at Less Than Fair Value and Antidumping Duty Orders: Certain Cut-To-Length Carbon-Quality Steel Plate Products from France, India, Indonesia, Italy, Japan and the Republic of Korea, 65 FR 6585 (February 10, 2000). Nucor Corporation, a domestic interested party, requested that the Department conduct an administrative review of the order. See Letter from Nucor Corporation, dated February 28, 2005. On March 23, 2005, the Department published the initiation notice of the administrative review of the antidumping duty order on CTL Plate from Italy. See Initiation of Antidumping Duty and Countervailing Duty Reviews and Requests for Revocation in Part, 70 FR 14643 (March 23, 2005). The deadline for issuing the preliminary results of administrative review is currently October 31, 2005.

Extension of Time Limit for Preliminary Results

Section 751(a)(3)(A) of the Tariff Act of 1930, as amended (“the Act”), requires the Department to issue the preliminary results of an administrative review within 245 days after the last day of the anniversary month of an order for which a review is requested. If it is not practicable to complete the review within the time period, section 751(a)(3)(A) of the Act and section 351.213(h)(2) of the Department's regulations allow the Department to extend this deadline to a maximum of 365 days. In this case, the Department requires additional time to further analyze one respondent's claims about knowledge and the ultimate destination of subject imports. Therefore, the Department determines that it is not practicable to complete the review by October 31, 2005. For this reason, we are extending the time limit for completing the preliminary results to no later than February 28, 2005, in accordance with section 751(a)(3)(A) of the Act. We intend to issue the final results of review no later than 120 days after publication of the notice of the preliminary results.

This notice is being issued and published in accordance with section 751(a)(3)(A) and 777(i)(1) of the Act.

Dated: October 13, 2005.
Holly A. Kuga,
Acting Deputy Assistant Secretary for Import Administration.

[FR Doc. E5-5793 Filed 10-19-05; 8:45 am]

BILLING CODE 3510-DS-S